DEPARTMENT OF COMMERCE

International Trade Administration

[C-570-991]

Countervailing Duty Investigation of Chlorinated Isocyanurates From the People's Republic of China: Postponement of Preliminary Determination

AGENCY: Enforcement and Compliance, formerly Import Administration, International Trade Administration, Department of Commerce.

FOR FURTHER INFORMATION CONTACT: Paul Walker, AD/CVD Operations, Office V, Enforcement and Compliance, International Trade Administration, U.S. Department of Commerce, 14th Street and Constitution Avenue NW., Washington, DC 20230; telephone: 202-482-0413.

SUPPLEMENTARY INFORMATION:

Background

On September 18, 2013, the Department of Commerce (the “Department”) initiated the countervailing duty investigation of chlorinated isocyanurates (“chlorinated isos”) from the People's Republic of China (“PRC”).¹ Currently, the preliminary determination is due no later than December 8, 2013.²

¹ See Chlorinated Isocyanurates from the People's Republic of China: Initiation of Countervailing Duty Investigation, 78 FR 59001 (September 25, 2013).

² As explained in the memorandum from the Assistant Secretary for Enforcement and Compliance, the Department has exercised its discretion to toll deadlines for the duration of the closure of the Federal Government from October 1, through October 16, 2013. See Memorandum for the Record, from Paul Piquado, Assistant Secretary for Enforcement and Compliance, “Deadlines Affected by the Shutdown of the Federal Government,” dated October 18, 2013. Therefore, all deadlines in this segment of the proceeding have been extended by 16 days. If the new deadline falls on a non-business day, in accordance with the Department's practice, the deadline will become the next business day. As noted above, the revised deadline for the preliminary determination of this investigation is December 8, 2013.

Postponement of Due Date for the Preliminary Determination

Section 703(b)(1) of the Tariff Act of 1930, as amended (the “Act”), requires the Department to issue the preliminary determination in a countervailing duty investigation within 65 days after the date on which the Department initiated the investigation. However, section 703(c)(1) of the Act permits the Department to postpone making the preliminary determination until no later than 130 days after the date on which it initiated the investigation if, among other reasons, the petitioner makes a timely request for a postponement, or the Department concludes that the parties concerned are cooperating and determines that the investigation is extraordinarily complicated. Although Clearon Corp. and Occidental Chemical Corporation (“Petitioners”) made a request on November 19, 2013, to postpone the preliminary countervailing duty determination, this request was made after the applicable deadline had passed.³ However, the original countervailing duty questionnaire is not due to the Department until December 6, 2013, three days before the current date of the preliminary determination. In addition, the Department determines that, thus far, the parties concerned are cooperating because each has made an entry of appearance in this investigation.⁴ Also, the Department must analyze 30 complicated programs ⁵ for each respondent, including companies that are cross-owned with each respondent, and likely issue multiple supplemental questionnaires. For all these reasons, the Department finds this investigation to be extraordinarily complicated within the meaning of section 731(c)(1)(B) of the Act, and is hereby fully postponing the preliminary countervailing duty determination by 130 days.⁶

³ See Petitioners' November 19, 2013 letter requesting postponement of the preliminary determination.

⁴ See, e.g., The Government of the People's Republic of China November 20, 2013 submission, “GOC Notice of Appearance and APO Application: Countervailing Duty Investigation of Chlorinated Isocyanurates from the People's Republic of China.”

⁵ The number of programs may be found in the “Countervailing Duty Investigation Initiation Checklist: Chlorinated Isocyanurates from the People's Republic of China,” at 7—29.

⁶ On November 19, 2013, the Department notified interested parties that we intend to fully postpone the preliminary determination of this investigation in a forthcoming Federal Register notice. See Memo to the File, from Paul Walker, Case Analyst, “Countervailing Duty Investigation on Chlorinated Isocyanurates from the People's Republic of China: Postponement of the Preliminary Determination,” dated November 19, 2013.

The Department notes that 130 days from the initiation date, plus the 16 days tolled due to the closure of the Federal Government, is February 11, 2014. Therefore, pursuant to the discretion afforded to the Department under section 703(c)(1)(B) of the Act, we are postponing the due date for the preliminary determination to no later than February 11, 2014.

This notice is issued and published pursuant to section 703(c)(2) of the Act and 19 CFR 351.205(f)(1).

Dated: November 22, 2013.
Paul Piquado,
Assistant Secretary for Enforcement and Compliance.

[FR Doc. 2013-28833 Filed 12-2-13; 8:45 am]

BILLING CODE 3510-DS-P